DEPARTMENT OF COMMERCE

National Oceanic and Atmospheric Administration

[Docket No. 030602141-5057-16; I.D. 012505A]

Availability of Grants Funds for Fiscal Year 2005/Extension of Application Deadline

AGENCY: National Marine Fisheries Service (NMFS), National Oceanic and Atmospheric Administration (NOAA), Commerce.

ACTION: Notice.

SUMMARY: The NMFS publishes this notice to extend the application deadline for the Western Pacific Demonstration Projects initiative. The original solicitation was published in the Federal Register on February 1, 2005. NOAA extends the application deadline for this initiative from March 15, 2005, to April 4, 2005, to provide the public more time to submit proposals. All other requirements for this solicitation remain the same.

DATES: Application packages must be received by 5 p.m. Hawaii standard time on April 4, 2005.

ADDRESSES: The address for submitting proposals electronically is: http://www.grants.gov/. (Electronic submission is strongly encouraged).

Paper submissions should be sent to the following address: Western Pacific Demonstration Projects Coordinator, National Marine Fisheries Service, Pacific Islands Regional Office, 1601 Kapiolani Blvd, Honolulu, HI 96814 ATTN: WPDP Federal Program Officer.

FOR FURTHER INFORMATION CONTACT: Scott W.S. Bloom, phone: 808-973-2935 ext. 218, fax: 808-973-2941, or e-mail: scott.bloom@noaa.gov.

SUPPLEMENTARY INFORMATION: This notice extends the solicitation period of the Western Pacific Demonstration Projects initiative announced in the Federal Register on February 1, 2005 (70 FR 5161).

Dated: March 8, 2005.
Rebecca Lent,
Deputy Assistant Administrator for Regulatory Programs, National Marine Fisheries Service.

[FR Doc. 05-4837 Filed 3-10-05; 8:45 am]

BILLING CODE 3510-22-S